DEPARTMENT OF TRANSPORTATION

Federal Aviation Administration

Agency Information Collection Activities: Requests for Comments; Clearance of Renewed Approval of Information Collection: Certification Procedures for Products and Parts

AGENCY: Federal Aviation Administration (FAA), DOT.

ACTION: Notice and request for comments.

SUMMARY: In accordance with the Paperwork Reduction Act of 1995, FAA invites public comments about our intention to request the Office of Management and Budget (OMB) approval for to renew a previously approved information collection. The Federal Register Notice with a 60-day comment period soliciting comments on the following collection of information was published on September 26, 2018. Applicable federal regulations prescribe certification standards for aircraft, aircraft engines, propellers appliances and parts. The information collected is used to determine compliance and applicant eligibility. The respondents are aircraft parts designers, manufacturers, and aircraft owners.

DATES: Written comments should be submitted by March 15, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Joy Wolf at (202) 267-4524, or by email at: joy.wolf@faa.gov.

SUPPLEMENTARY INFORMATION:

OMB Control Number: 2120-0018.

Title: Certification Procedures for Products and Parts.

Form Numbers: FAA Forms 8110-12, 8130-1, 8130-6, 8130-9, 8130-12.

Type of Review: Renewal with change.

Background: The Federal Register Notice with a 60-day comment period soliciting comments on the following collection of information was published on September 26, 2018. (83 FR 48682). 14 CFR part 21 prescribes certification standards for aircraft, aircraft engines, propellers appliances and parts. The information collected is used to determine compliance and applicant eligibility. FAA Airworthiness inspectors, designated inspectors, engineers, and designated engineers review the required data submittals to determine that aviation products and articles and their manufacturing facilities comply with the applicable requirements, and that the products and articles have no unsafe features.

This request is to make changes to FAA Form 8130-6, APPLICATION FOR U.S. AIRWORTHINESS CERTIFICATE to include new entries for the SPECIAL AIRWORTHINESS CERTIFICATE Categories, Section II. CERTIFICATION REQUESTED, BLOCK 4. EXPERIMENTAL, UNMANNED AIRCRAFT. The new categories to be added to the form will be annotated by blocks 9D—SHOW COMPLIANCE WITH CFR and 9E—EXHIBITION.

The FAA continues to move toward the electronic collection of data for some of its information collections and electronic signatures. As such, the FAA is working to develop the ASKME Segment 2 Airworthiness Application (AWC) that would allow the electronic collection of the specific information requested in these forms. Testing for this effort is underway with scheduled field implementation targeted for early 2019.

Respondents: Approximately 16,773 aircraft parts designers, manufacturers, and aircraft owners.

Frequency: On occasion.

Estimated Average Burden per Response: .55 hours.

Estimated Total Annual Burden: 12,916.6 hours.

Issued in Washington, DC.
Joy Wolf,
Aviation Safety, Directives & Forms Management Officer (DMO/FMO), Aircraft Certification Service.

[FR Doc. 2019-02133 Filed 2-12-19; 8:45 am]

BILLING CODE 4910-13-P